DEPARTMENT OF TRANSPORTATION

Federal Aviation Administration

14 CFR Part 39

[Docket No. FAA-2015-3942; Directorate Identifier 2014-SW-064-AD; Amendment 39-18446; AD 2016-07-01]

RIN 2120-AA64

Airworthiness Directives; Sikorsky Aircraft Corporation (Sikorsky) Helicopters

AGENCY: Federal Aviation Administration (FAA), DOT.

ACTION: Final rule.

SUMMARY: We are superseding Airworthiness Directive (AD) 2014-07-04R1 for certain Model S-92A helicopters. AD 2014-07-04R1 required repetitive inspections in the upper deck area for incorrectly installed clamps and chafing between the electrical wires and the hydraulic lines and replacing any unairworthy wires or hydraulic lines. This new AD requires altering the wiring system in the upper deck area to correct the unsafe condition described in AD 2014-07-04R1. We are issuing this AD to prevent a fire in an area of the helicopter without extinguishing capability and subsequent loss of control of the helicopter.

DATES: This AD is effective May 5, 2016.

The Director of the Federal Register approved the incorporation by reference of a certain publication listed in this AD as of May 5, 2016.

ADDRESSES: For service information identified in this final rule, contact Sikorsky Aircraft Corporation, Customer Service Engineering, 124 Quarry Road, Trumbull, CT 06611; telephone 1-800-Winged-S or 203-416-4299; email sikorskywcs@sikorsky.com. You may review service information at the FAA, Office of the Regional Counsel, Southwest Region, 10101 Hillwood Pkwy., Room 6N-321, Fort Worth, Texas 76177. It is also on the Internet at http://www.regulations.gov by searching for and locating Docket No. FAA-2015-3942.

Examining the AD Docket

You may examine the AD docket on the Internet at http://www.regulations.gov in Docket No. FAA-2015-3942; or in person at the Docket Management Facility between 9 a.m. and 5 p.m., Monday through Friday, except Federal holidays. The AD docket contains this AD, any incorporated-by-reference information, the economic evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Ian Lucas, Aviation Safety Engineer, Boston Aircraft Certification Office, Engine & Propeller Directorate, FAA, 1200 District Avenue, Burlington, Massachusetts 01803; telephone (781) 238-7757; email ian.lucas@faa.gov.

SUPPLEMENTARY INFORMATION:

Discussion

We issued a notice of proposed rulemaking (NPRM) to amend 14 CFR part 39 to remove AD 2014-07-04R1, Amendment 39-17964 (79 FR 54893, September 15, 2014) and add a new AD. AD 2014-07-04R1 applied to certain serial-numbered Sikorsky S92A helicopters and required repetitively inspecting the upper deck area for incorrectly installed clamps and for chafing between the electrical wires and hydraulic lines.

The NPRM published in the Federal Register on September 25, 2015 (80 FR 57751). The NPRM was prompted by an alteration developed by Sikorsky that separates and re-routes the engine inlet feeder lines. The NPRM proposed to require this alteration to prevent chafing between the electrical lines and hydraulic hoses, which could result in a fire in an area of the helicopter without extinguishing capability and subsequent loss of control of the helicopter.

Since the NPRM was issued, the mailing address for the Boston Aircraft Certification Office has changed. We have revised this contact information in this final rule to reflect the new mailing address.

Comments

We gave the public the opportunity to participate in developing this AD, but we did not receive any comments on the NPRM (80 FR 57751, September 25, 2015).

FAA's Determination

We have reviewed the relevant information and determined that an unsafe condition exists and is likely to exist or develop on other helicopters of these same type designs and that air safety and the public interest require adopting the AD requirements as proposed.

Related Service Information Under 1 CFR Part 51

Sikorsky has issued Special Service Instructions SSI No. 92-070A, Revision A, dated April 25, 2014 (SSI 92-070A), which contains procedures to alter the wiring system in the upper deck area to prevent chafing. This service information is reasonably available because the interested parties have access to it through their normal course of business or by means identified in the ADDRESSES section.

Other Related Service Information

We also reviewed Sikorsky Alert Service Bulletin ASB 92-20-003, Basic Issue, dated May 5, 2014 (ASB 92-20-003). ASB 92-20-003 specifies a one-time modification of the upper deck wiring harnesses to prevent possible chafing by complying with SSI 92-070A.

Differences Between This AD and the Service Information

The service information provides a compliance date of November 5, 2015; this AD requires a compliance time of 150 hours time-in-service. Also, the service information requires submitting certain documentation to the manufacturer, and this AD does not.

Costs of Compliance

We estimate that this AD will affect 20 helicopters of U.S. Registry.

We estimate that operators may incur the following costs in order to comply with this AD. Labor costs are estimated at $85 per work-hour. Rerouting the upper deck wiring system and replacing and installing new parts will take 58 work-hours and $8,000 in required parts, for a total cost of $12,930 per helicopter and $258,600 for the fleet.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska to the extent that a regulatory distinction is required, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2014-07-04R1, Amendment 39-17964 (79 FR 54893, September 15, 2014), and adding the following new AD:

2016-07-01 Sikorsky Aircraft Corporation: Amendment 39-18446; Docket No. FAA-2015-3942; Directorate Identifier 2014-SW-064-AD.

(a) Applicability

This AD applies to Model S-92A helicopters, serial number 920006 through 920084, certificated in any category.

(b) Unsafe Condition

This AD defines the unsafe condition as an incorrectly installed clamp that does not provide adequate clearance to prevent chafing between the high voltage electrical lines and the hydraulic hoses. This condition could result in a fire in an area of the helicopter without extinguishing capability and subsequent loss of control of the helicopter.

(c) Affected ADs

This AD supersedes AD 2014-07-04R1, Amendment 39-17964 (79 FR 54893, September 15, 2014).

(d) Effective Date

This AD becomes effective May 5, 2016.

(e) Compliance

You are responsible for performing each action required by this AD within the specified compliance time unless it has already been accomplished prior to that time.

(f) Required Actions

Within 150 hours time-in-service, reroute the left hand and right hand upper deck wiring system by complying with the Instructions, paragraph B, of Sikorsky Aircraft Corporation Special Service Instructions SSI No. 92-070A, Revision A, dated April 25, 2014.

(g) Alternative Methods of Compliance (AMOCs)

(1) The Manager, Boston Aircraft Certification Office, FAA, may approve AMOCs for this AD. Send your proposal to: Ian Lucas, Aviation Safety Engineer, Engine & Propeller Directorate, FAA, 1200 District Avenue, Burlington, Massachusetts 01803; telephone (781) 238-7757; email ian.lucas@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(h) Additional Information

Sikorsky Aircraft Corporation Alert Service Bulletin ASB 92-20-003, Basic Issue, dated May 5, 2014, which is not incorporated by reference, contains additional information about the subject of this AD. For service information identified in this final rule, contact Sikorsky Aircraft Corporation, Customer Service Engineering, 124 Quarry Road, Trumbull, CT 06611; telephone 1-800-Winged-S or 203-416-4299; email sikorskywcs@sikorsky.com. You may review a copy of this service information at the FAA, Office of the Regional Counsel, Southwest Region, 10101 Hillwood Pkwy., Room 6N-321, Fort Worth, TX 76177.

(i) Subject

Joint Aircraft Service Component (JASC) Code: 2910 Main Hydraulic System.

(j) Material Incorporated by Reference

(1) The Director of the Federal Register approved the incorporation by reference of the service information listed in this paragraph under 5 U.S.C. 552(a) and 1 CFR part 51.

(2) You must use this service information as applicable to do the actions required by this AD, unless the AD specifies otherwise.

(i) Sikorsky Aircraft Corporation Special Service Instructions SSI No. 92-070A, Revision A, dated April 25, 2014.

(ii) Reserved.

(3) For service information identified in this final rule, contact Sikorsky Aircraft Corporation, Customer Service Engineering, 124 Quarry Road, Trumbull, CT 06611; telephone 1-800-Winged-S or 203-416-4299; email sikorskywcs@sikorsky.com.

(4) You may view this service information at FAA, Office of the Regional Counsel, Southwest Region, 10101 Hillwood Pkwy, Room 6N-321, Fort Worth, TX 76177. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on March 21, 2016.
Scott A. Horn,
Acting Manager, Rotorcraft Directorate, Aircraft Certification Service.

[FR Doc. 2016-06906 Filed 3-30-16; 8:45 am]

BILLING CODE 4910-13-P